DEPARTMENT OF ENERGY

Federal Energy Regulatory Commission

[Docket No. CP04-34-000]

Columbia Gas Transmission Corporation; Notice Of Availability of the Environmental Assessment for the Proposed Line 1278 Replacement Project

April 15, 2005.

The staff of the Federal Energy Regulatory Commission (FERC or Commission) in cooperation with the National Park Service has prepared an environmental assessment (EA) on the natural gas pipeline facilities proposed by Columbia Gas Transmission Corporation (Columbia) in the above referenced docket.

The EA was prepared to satisfy the requirements of the National Environmental Policy Act. The staff concludes that approval of the proposed project, with appropriate mitigating measures, would not constitute a major Federal action significantly affecting the quality of the human environment.

The EA assesses the potential effects of the proposed 43.4 miles of abandonment of Columbia's existing 14-inch-diameter pipeline, Line 1278, and its replacement with 20-inch-diameter pipeline in Northampton, Monroe, and Pike Counties, Pennsylvania mostly within Columbia's existing right-of-way. Columbia is under mandate from the United States Department of Transportation to replace deteriorated sections of its existing 14-inch-diameter Line 1278. The replacement would take place in two phases in 2005 and 2006. No volume increases are proposed.

Columbia would also abandon and replace one 12-inch-diameter and eight 14-inch-diameter valve settings with 20-inch-diameter valve settings along the replaced pipeline. The existing 14-inch-diameter pig launcher presently located at the Easton Compressor Station would be removed and relocated to the northern terminus of the project at Columbia's Weber Road Lot for use on Line 1278 at the north end of the replacement in Pike County. A new 20-inch-diameter receiver and a 12-inch-diameter regulator setting would also be installed at the Weber Road Lot.

The EA has been placed in the public files of the FERC. A limited number of copies of the EA are available for distribution and public inspection at: Federal Energy Regulatory Commission, Public Reference Room, 888 First Street, NE., Room 2A, Washington, DC 20426, (202) 502-8371; Delaware Water Gap National Recreation Area, River Road, Bushkill, PA 18324, (570) 588-2452.

Copies of the EA have been mailed to Federal, State, and local agencies, public interest groups, interested individuals, libraries, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First Street, NE., Room 1A, Washington, DC 20426;

• Label one copy of the comments for the attention of Gas 1, PJ-11.1;

• Reference Docket No. CP04-34-000

• Mail your comments so that they will be received in Washington, DC on or before May 16, 2005.

Please note that the Commission encourages electronic filing of comments. See 18 CFR 385.2001(a)(1)(iii) and the instructions on the Commission's Internet Web site at http://www.ferc.gov under the “e-Filing” link and the link to the User's Guide. Prepare your submission in the same manner as you would if filing on paper and save it to a file on your hard drive. Before you can file comments you will need to create an account by clicking on “Login to File” and then “New User Account.” You will be asked to select the type of filing you are making. This filing is considered a “Comment on Filing.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC (3372) or on the FERC Internet Web site (http://www.ferc.gov) using the “eLibrary” link, select “General Search” from the eLibrary menu, enter the selected date range and “Docket Number” (i.e., CP04-34) and follow the instructions. Searches may also be done using the phase “Line 1278 Replacement” in the “Text Search” field. For assistance with eLibrary, the eLibrary helpline can be reached at 1-866-208-3676, TTY (202) 502-8659 or at ferconlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. To register for this service, go to http://www.ferc.gov/esubscribenow.htm.

Magalie R. Salas,
Secretary.

[FR Doc. E5-1901 Filed 4-21-05; 8:45 am]

BILLING CODE 6717-01-P